DEPARTMENT OF COMMERCE

National Oceanic and Atmospheric Administration

RIN 0648-XF241

New England Fishery Management Council; Public Meeting

AGENCY: National Marine Fisheries Service (NMFS), National Oceanic and Atmospheric Administration (NOAA), Commerce.

ACTION: Notice; public meeting.

SUMMARY: The New England Fishery Management Council (Council) is scheduling a public workshop of its Habitat Committee to consider actions affecting New England fisheries in the exclusive economic zone (EEZ). Recommendations from this group will be brought to the full Council for formal consideration and action, if appropriate.

DATES: This meeting will be held on Monday, March 13, 2017, Tuesday, March 14, 2017 and Wednesday, March 15, 2017 at 9:30 a.m. each day.

ADDRESSES: The meeting will be held at the Fairfield Inn & Suites, 185 MacArthur Drive, New Bedford, MA 02740 on Monday, March 13 and Tuesday, March 14, 2017 and at the Sheraton Harborside, 250 Market Street, Portsmouth, NH 03801 on Wednesday, March 15, 2017.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Council is developing management areas to protect deep-sea or cold water corals found offshore New England from impacts due to fishing gear interactions. Concentrations of corals occur in the canyons, continental slope, and seamounts south of Georges Bank, and also in deep waters of the Gulf of Maine, including some inshore sites (Mt. Desert Rock and Outer Schoodic Ridge) as well as in Jordan and Georges Basins offshore. Some coral habitats appear to be actively fished, while others appear to be beyond the current footprint of bottom-tending gear operations.

In developing these coral management areas, the Council is seeking to minimize their impacts on existing fisheries. Designing these areas to accommodate fishing activity requires a detailed understanding of where different gears are used in relation to the potential coral management areas. Therefore, the Council is seeking guidance from active fishermen who use bottom-tending gears (trawls, traps, and other gear types) offshore in the Gulf of Maine and in the slope and canyon region south of Georges Bank. Other stakeholders interested in coral management are also welcome to attend the workshops and provide their input. Specifically, the Council is seeking: (1) Industry information on fishing activities within proposed coral protection zones; and (2) suggestions about how to refine management area boundaries to limit impacts to fishing operations while still providing protection for corals.

Three days of discussion in two locations are scheduled:

• In New Bedford (March 13 and 14) the workshop will focus on fishing activity in and around the draft deep-sea coral zones south of Georges Bank (canyons and continental slope). These zones are generally deeper than 150 fathoms. Note that large pelagic fishermen who work in the canyon/slope region are not proposed to be impacted by the Coral Amendment. The discussion is intended to carry over between the two days, so participants are encouraged to attend on both Monday and Tuesday if possible.

• In Portsmouth (March 15) the workshop will focus on fishing activity in Jordan Basin and the Lindenkohl Knoll area of Georges Basin. Proposals for the inshore areas around Outer Schoodic Ridge and Mount Desert Rock are not the intended focus of this Portsmouth gathering.

The purpose of these workshops is to refine the boundaries of the Council's existing proposals. Public hearings will be conducted later this spring to solicit comments, including general support of or opposition to, all areas proposed in the amendment.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Thomas A. Nies, Executive Director, at (978) 465-0492, at least 5 days prior to the meeting date. This meeting will be recorded. Consistent with 16 U.S.C. 1852, a copy of the recording is available upon request.

Authority: 16 U.S.C. 1801 et seq.

Dated: February 21, 2017.
Tracey L. Thompson,
Acting Deputy Director, Office of Sustainable Fisheries, National Marine Fisheries Service.

[FR Doc. 2017-03641 Filed 2-23-17; 8:45 am]

BILLING CODE 3510-22-P